DEPARTMENT OF THE INTERIOR

Bureau of Land Management

[LLNMP01400 17110000.FU0000 LVRDNM210000]

Establishment of New Fees for the Rob Jaggers Camping Area in the Fort Stanton-Snowy River Cave National Conservation Area, New Mexico

AGENCY: Bureau of Land Management, Interior.

ACTION: Notice.

SUMMARY: Pursuant to the Federal Lands Recreation Enhancement Act (REA), the Bureau of Land Management (BLM) Roswell Field Office has established expanded amenity fees for services provided at the Rob Jaggers Camping Area within the Fort Stanton-Snowy River Cave National Conservation Area (NCA) in New Mexico.

DATES: Effective July 1, 2014, the BLM began collecting expanded amenity fees for the Rob Jaggers Camping Area.

ADDRESSES: Mail: Roswell Field Office, 2909 West 2nd Street, Roswell, New Mexico 88201 or email: qfranzoy@blm.gov.

FOR FURTHER INFORMATION CONTACT: Quinton Franzoy, Law Enforcement Ranger, Roswell Field Office, 2909 West 2nd Street, Roswell, NM 88201 or qfranzoy@blm.gov. Persons who use a telecommunications device for the deaf (TDD) may call the Federal Information Relay Service (FIRS) at 1-800-877-8339 to leave a message or question with the above individual. The FIRS is available 24 hours a day, seven days a week. You will receive a reply during normal business hours.

SUPPLEMENTARY INFORMATION: Pursuant to the REA (16 U.S.C 6802 (g)), the Secretary may charge an expanded amenity recreation fee for services including, but not limited to: Use of hookups for electricity, cable, or sewer, use of sanitary dump stations, and use of reservation services. In February of 2013, the Roswell Field Office prepared the Rob Jaggers Camping Area Business Plan which was brought before the Pecos District Resource Advisory Committee (RAC) during its development, as required by the REA. Notice was published in the Federal Register on August 1, 2013 (78 FR 46598) and the Business Plan was available for a 6-month comment period. After the comment period closed on March 12, 2014, the RAC unanimously approved the proposed expanded amenity fee schedule. Under the schedule, there is a $5 fee for water hookup, a $5 fee for electric hookup, a $15 fee for using the dump station, and a $25 fee for reserving the group shelter. Overnight camping will remain free of charge. Fee amounts will be posted at a pay station kiosk at the NCA and on the BLM Roswell Field Office Web site.

Authority: The Federal Lands Recreation Enhancement Act 2005 as authorized under 16 U.S.C. 6801-6814.

Aden L. Seidlitz,
Associate State Director, New Mexico.

[FR Doc. 2014-19613 Filed 8-18-14; 8:45 am]

BILLING CODE 4310-FB-P